DEPARTMENT OF TRANSPORTATION

Federal Aviation Administration

14 CFR Part 97

[Docket No. 31387; Amdt. No. 3972]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective August 31, 2021. The compliance date for each SIAP, associated Takeoff Minimums, and ODP is specified in the amendatory provisions.

The incorporation by reference of certain publications listed in the regulations is approved by the Director of the Federal Register as of August 31, 2021.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Information Services, 6500 South MacArthur Blvd., Oklahoma City, OK 73169 or,

4. The National Archives and Records Administration (NARA).

For information on the availability of this material at NARA, email fr.inspection@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section. The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on August 20, 2021.
Wade E.K. Terrell,
Aviation Safety, Flight Standards Service Manager (A), Flight Technologies and Procedures Division.

Adoption of the Amendment

Accordingly, pursuant to the authority delegated to me, Title 14, CFR part 97, is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
7-Oct-21 | OK | Chickasha | Chickasha Muni | 1/0097 | 6/10/21 | VOR/DME-A, Amdt 1B.
7-Oct-21 | AL | Muscle Shoals | Northwest Alabama Rgnl | 1/0194 | 6/28/21 | RNAV (GPS) RWY 36, Amdt 1A.
7-Oct-21 | MS | Hattiesburg-Laurel | Hattiesburg-Laurel Rgnl | 1/0679 | 8/9/21 | VOR-A, Orig-A.
7-Oct-21 | MS | Hattiesburg-Laurel | Hattiesburg-Laurel Rgnl | 1/0682 | 8/9/21 | ILS OR LOC RWY 18, Amdt 7C.
7-Oct-21 | GA | Athens | Athens/Ben Epps | 1/1376 | 6/30/21 | RNAV (GPS) RWY 27, Amdt 1A.
7-Oct-21 | FL | Tampa | Tampa Exec | 1/1870 | 8/6/21 | ILS OR LOC RWY 23, Amdt 1D.
7-Oct-21 | FL | Tampa | Tampa Exec | 1/1871 | 8/6/21 | RNAV (GPS) RWY 5, Orig-D.
7-Oct-21 | FL | Tampa | Tampa Exec | 1/1873 | 8/6/21 | RNAV (GPS) RWY 23, Amdt 1D.
7-Oct-21 | TX | Kountze/Silsbee | Hawthorne Fld | 1/1987 | 8/6/21 | RNAV (GPS) RWY 13, Amdt 1B.
7-Oct-21 | ID | Lewiston | Lewiston-Nez Perce County | 1/2034 | 8/6/21 | RNAV (GPS) Y RWY 8, Amdt 2B.
7-Oct-21 | ID | Lewiston | Lewiston-Nez Perce County | 1/2081 | 8/6/21 | RNAV (GPS) Y RWY 26, Orig-B.
7-Oct-21 | NE | O'Neill | The O'Neill Muni-John L Baker Fld | 1/2090 | 8/9/21 | RNAV (GPS) RWY 13, Amdt 1B.
7-Oct-21 | NE | O'Neill | The O'Neill Muni-John L Baker Fld | 1/2091 | 8/9/21 | RNAV (GPS) RWY 31, Amdt 1B.
7-Oct-21 | NE | O'Neill | The O'Neill Muni-John L Baker Fld | 1/2092 | 8/9/21 | VOR RWY 13, Amdt 5D.
7-Oct-21 | NE | O'Neill | The O'Neill Muni-John L Baker Fld | 1/2093 | 8/9/21 | VOR RWY 31, Amdt 1C.
7-Oct-21 | GA | St Simons Island | St Simons Island | 1/2098 | 7/1/21 | VOR RWY 4, Amdt 16A.
7-Oct-21 | DE | Wilmington | New Castle | 1/2126 | 8/12/21 | RNAV (GPS) RWY 9, Orig-A.
7-Oct-21 | DE | Wilmington | New Castle | 1/2127 | 8/12/21 | RNAV (GPS) RWY 19, Orig.
7-Oct-21 | DE | Wilmington | New Castle | 1/2128 | 8/12/21 | RNAV (GPS) RWY 27, Orig-B.
7-Oct-21 | TX | Perryton | Perryton Ochiltree County | 1/2144 | 8/6/21 | RNAV (GPS) RWY 17, Orig-B.
7-Oct-21 | WA | Hoquiam | Bowerman | 1/2178 | 8/11/21 | RNAV (GPS) RWY 6, Amdt 1B.
7-Oct-21 | WA | Hoquiam | Bowerman | 1/2183 | 8/11/21 | VOR RWY 6, Amdt 15.
7-Oct-21 | WA | Hoquiam | Bowerman | 1/2189 | 8/11/21 | RNAV (GPS) RWY 24, Amdt 2D.
7-Oct-21 | WA | Hoquiam | Bowerman | 1/2191 | 8/11/21 | ILS OR LOC/DME RWY 24, Amdt 4B.
7-Oct-21 | NJ | Princeton/Rocky Hill | Princeton | 1/2432 | 6/28/21 | RNAV (GPS) RWY 10, Amdt 2.
7-Oct-21 | NJ | Princeton/Rocky Hill | Princeton | 1/2433 | 6/28/21 | VOR-A, Amdt 7C.
7-Oct-21 | TX | Livingston | Livingston Muni | 1/2438 | 8/6/21 | RNAV (GPS) RWY 30, Orig-C.
7-Oct-21 | DE | Wilmington | New Castle | 1/2442 | 8/12/21 | VOR RWY 9, Amdt 7A.
7-Oct-21 | DE | Wilmington | New Castle | 1/2446 | 8/12/21 | VOR RWY 27, Amdt 4B.
7-Oct-21 | DE | Wilmington | New Castle | 1/2449 | 8/12/21 | RNAV (GPS) RWY 1, Orig.
7-Oct-21 | ME | Waterville | Waterville Robert Lafleur | 1/2567 | 6/22/21 | ILS OR LOC/DME RWY 5, Amdt 4B.
7-Oct-21 | ME | Waterville | Waterville Robert Lafleur | 1/2568 | 6/22/21 | RNAV (GPS) RWY 5, Amdt 1C.
7-Oct-21 | ME | Waterville | Waterville Robert Lafleur | 1/2583 | 6/22/21 | RNAV (GPS) RWY 23, Orig-A.
7-Oct-21 | OH | Fostoria | Fostoria Metro | 1/3275 | 5/24/21 | RNAV (GPS) RWY 27, Amdt 1B.
7-Oct-21 | OH | Fostoria | Fostoria Metro | 1/3276 | 5/24/21 | RNAV (GPS) RWY 9, Orig-A.
7-Oct-21 | TX | Lancaster | Lancaster Rgnl | 1/3443 | 5/24/21 | RNAV (GPS) RWY 31, Amdt 1.
7-Oct-21 | MS | Winona | Winona-Montgomery County | 1/3763 | 6/28/21 | RNAV (GPS) RWY 21, Amdt 1A.
7-Oct-21 | IL | Chicago/West Chicago | Dupage | 1/3893 | 8/11/21 | RNAV (GPS) RWY 20R, Amdt 1G.
7-Oct-21 | IL | Chicago/West Chicago | Dupage | 1/3896 | 8/11/21 | RNAV (GPS) RWY 20L, Orig-D.
7-Oct-21 | IL | Chicago/West Chicago | Dupage | 1/3899 | 8/11/21 | RNAV (GPS) RWY 10, Orig-E.
7-Oct-21 | IL | Chicago/West Chicago | Dupage | 1/3902 | 8/11/21 | RNAV (GPS) RWY 2R, Orig-D.
7-Oct-21 | SC | Charleston | Charleston AFB/Intl | 1/3915 | 6/21/21 | ILS OR LOC RWY 33, Amdt 8C.
7-Oct-21 | SC | Charleston | Charleston AFB/Intl | 1/3916 | 6/21/21 | VOR/DME OR TACAN RWY 3 , Amdt 14B.
7-Oct-21 | SC | Charleston | Charleston AFB/Intl | 1/3917 | 6/21/21 | VOR/DME OR TACAN RWY 21, Amdt 14A.
7-Oct-21 | SC | Charleston | Charleston AFB/Intl | 1/3918 | 6/21/21 | VOR/DME OR TACAN RWY 33, Amdt 13B.
7-Oct-21 | SC | Charleston | Charleston AFB/Intl | 1/3921 | 6/21/21 | RNAV (GPS) Y RWY 33, Amdt 4.
7-Oct-21 | SC | Charleston | Charleston AFB/Intl | 1/3922 | 6/21/21 | RNAV (GPS) Y RWY 21, Amdt 3.
7-Oct-21 | SC | Charleston | Charleston AFB/Intl | 1/3925 | 6/21/21 | RNAV (GPS) Y RWY 15, Amdt 4.
7-Oct-21 | SC | Charleston | Charleston AFB/Intl | 1/3926 | 6/21/21 | RNAV (GPS) Y RWY 3, Amdt 3.
7-Oct-21 | IL | Chicago/West Chicago | Dupage | 1/3944 | 8/11/21 | RNAV (GPS) RWY 2L, Orig-E.
7-Oct-21 | IL | Chicago/West Chicago | Dupage | 1/3947 | 8/11/21 | ILS OR LOC RWY 10, Amdt 8D.
7-Oct-21 | OH | Painesville | Concord Airpark | 1/4019 | 7/26/21 | VOR OR GPS-A, Orig-B.
7-Oct-21 | LA | Minden | Minden | 1/4429 | 5/24/21 | RNAV (GPS) RWY 19, Orig-B.
7-Oct-21 | LA | Minden | Minden | 1/4430 | 5/24/21 | RNAV (GPS) RWY 1, Orig-A.
7-Oct-21 | PA | Lebanon | Keller Brothers | 1/4656 | 6/28/21 | RNAV (GPS) RWY 25, Orig-B.
7-Oct-21 | IL | Greenwood/Wonder Lake | Galt Fld | 1/4665 | 5/24/21 | RNAV (GPS)-B, Orig-A.
7-Oct-21 | MN | Minneapolis | Flying Cloud | 1/4877 | 7/8/21 | RNAV (GPS) RWY 28R, Amdt 2D.
7-Oct-21 | MN | Minneapolis | Flying Cloud | 1/4882 | 7/8/21 | VOR/DME RWY 36, Amdt 1A.
7-Oct-21 | MN | Minneapolis | Flying Cloud | 1/4897 | 7/8/21 | RNAV (GPS) RWY 10R, Orig-B.
7-Oct-21 | MN | Minneapolis | Flying Cloud | 1/4899 | 7/8/21 | RNAV (GPS) RWY 36, Amdt 2B.
7-Oct-21 | MN | Minneapolis | Flying Cloud | 1/4901 | 7/8/21 | RNAV (GPS) RWY 10L, Amdt 1C.
7-Oct-21 | MN | Minneapolis | Flying Cloud | 1/4903 | 7/8/21 | RNAV (GPS) RWY 28L, Amdt 2B.
7-Oct-21 | MA | Stow | Minute Man Air Fld | 1/4946 | 6/28/21 | RNAV (GPS) RWY 21, Orig-D.
7-Oct-21 | AR | Russellville | Russellville Rgnl | 1/4970 | 6/2/21 | RNAV (GPS) RWY 7, Orig-A.
7-Oct-21 | AR | Russellville | Russellville Rgnl | 1/4976 | 6/2/21 | RNAV (GPS) RWY 25, Orig-B.
7-Oct-21 | AR | Russellville | Russellville Rgnl | 1/4978 | 6/2/21 | NDB-A, Amdt 4C.
7-Oct-21 | OH | St Clairsville | Alderman | 1/4988 | 6/9/21 | VOR-A, Amdt 3B.
7-Oct-21 | CA | Salinas | Salinas Muni | 1/4994 | 6/4/21 | LOC/DME RWY 31, Amdt 4D.
7-Oct-21 | CA | Salinas | Salinas Muni | 1/4995 | 6/4/21 | RNAV (GPS) RWY 13, Orig.
7-Oct-21 | CA | Salinas | Salinas Muni | 1/4996 | 6/4/21 | RNAV (GPS) Y RWY 31, Orig.
7-Oct-21 | CA | Salinas | Salinas Muni | 1/4997 | 6/4/21 | VOR RWY 13, Amdt 11D.
7-Oct-21 | IA | Le Mars | Le Mars Muni | 1/5178 | 6/4/21 | RNAV (GPS) RWY 18, Amdt 2.
7-Oct-21 | NM | Moriarty | Moriarty Muni | 1/5207 | 6/4/21 | RNAV (GPS) RWY 26, Orig-A.
7-Oct-21 | NC | Hickory | Hickory Rgnl | 1/5221 | 7/28/21 | ILS OR LOC RWY 24, Amdt 8B.
7-Oct-21 | NC | Hickory | Hickory Rgnl | 1/5227 | 7/28/21 | RNAV (GPS) RWY 19, Amdt 1A.
7-Oct-21 | NC | Hickory | Hickory Rgnl | 1/5228 | 7/28/21 | RNAV (GPS) RWY 24, Amdt 1B.
7-Oct-21 | NC | Hickory | Hickory Rgnl | 1/5229 | 7/28/21 | RNAV (GPS) RWY 6, Amdt 1A.
7-Oct-21 | WI | West Bend | West Bend Muni | 1/5337 | 8/12/21 | RNAV (GPS) RWY 6, Orig-B.
7-Oct-21 | WI | West Bend | West Bend Muni | 1/5340 | 8/12/21 | RNAV (GPS) RWY 13, Orig-B.
7-Oct-21 | WI | West Bend | West Bend Muni | 1/5341 | 8/12/21 | RNAV (GPS) RWY 24, Orig-B.
7-Oct-21 | WI | West Bend | West Bend Muni | 1/5342 | 8/12/21 | RNAV (GPS) RWY 31, Orig-A.
7-Oct-21 | WI | West Bend | West Bend Muni | 1/5343 | 8/12/21 | VOR RWY 13, Amdt 5D.
7-Oct-21 | WI | West Bend | West Bend Muni | 1/5348 | 8/12/21 | VOR RWY 24, Amdt 3C.
7-Oct-21 | NM | Truth Or Consequences | Truth Or Consequences Muni | 1/5430 | 8/9/21 | VOR-A, Amdt 9D.
7-Oct-21 | NM | Truth Or Consequences | Truth Or Consequences Muni | 1/5432 | 8/9/21 | RNAV (GPS)-A, Orig-A.
7-Oct-21 | MN | Appleton | Appleton Muni | 1/5573 | 6/18/21 | RNAV (GPS) RWY 13, Orig.
7-Oct-21 | NY | Elmira/Corning | Elmira/Corning Rgnl | 1/5629 | 6/28/21 | RNAV (GPS) RWY 24, Amdt 2B.
7-Oct-21 | NE | Auburn | Farington Fld | 1/5829 | 6/4/21 | RNAV (GPS) RWY 16, Orig.
7-Oct-21 | NY | South Bethlehem | South Albany | 1/5830 | 6/28/21 | RNAV (GPS) RWY 19, Orig-A.
7-Oct-21 | TX | Cleveland | Cleveland Muni | 1/5838 | 6/2/21 | RNAV (GPS) RWY 16, Orig-C.
7-Oct-21 | AK | Akhiok | Akhiok | 1/5888 | 6/4/21 | RNAV (GPS)-A, Orig-B.
7-Oct-21 | MS | Hattiesburg-Laurel | Hattiesburg-Laurel Rgnl | 1/5966 | 8/9/21 | RNAV (GPS) RWY 36, Amdt 1.
7-Oct-21 | AR | Benton | Saline County Rgnl | 1/6048 | 6/4/21 | ILS OR LOC/DME RWY 2, Orig.
7-Oct-21 | AR | Benton | Saline County Rgnl | 1/6049 | 6/4/21 | RNAV (GPS) RWY 2, Orig.
7-Oct-21 | AR | Benton | Saline County Rgnl | 1/6050 | 6/4/21 | RNAV (GPS) RWY 20, Orig.
7-Oct-21 | TX | Yoakum | Yoakum Muni | 1/6106 | 8/6/21 | RNAV (GPS) RWY 31, Orig-B.
7-Oct-21 | MI | Grand Haven | Grand Haven Memorial Airpark | 1/6205 | 7/13/21 | RNAV (GPS) RWY 27, Orig-A.
7-Oct-21 | MI | Grand Haven | Grand Haven Memorial Airpark | 1/6206 | 7/13/21 | RNAV (GPS) RWY 9, Orig-A.
7-Oct-21 | NC | Star | Montgomery County | 1/6254 | 7/28/21 | RNAV (GPS) RWY 3, Orig-A.
7-Oct-21 | NC | Star | Montgomery County | 1/6255 | 7/28/21 | RNAV (GPS) RWY 21, Orig-B.
7-Oct-21 | TN | Nashville | Nashville Intl | 1/6676 | 6/22/21 | RNAV (RNP) Z RWY 2C, Amdt 2B.
7-Oct-21 | TN | Nashville | Nashville Intl | 1/6677 | 6/22/21 | RNAV (GPS) Y RWY 2C, Amdt 2A.
7-Oct-21 | TN | Nashville | Nashville Intl | 1/6680 | 6/22/21 | ILS OR LOC RWY 2C, Amdt 2A.
7-Oct-21 | WV | Bluefield | Mercer County | 1/6700 | 8/6/21 | VOR RWY 23, Amdt 5C.
7-Oct-21 | WV | Bluefield | Mercer County | 1/6702 | 8/6/21 | ILS OR LOC RWY 23, Amdt 15D.
7-Oct-21 | GA | Carrollton | West Georgia Rgnl—O V Gray Fld | 1/6713 | 8/13/21 | RNAV (GPS) RWY 35, Orig-A.
7-Oct-21 | GA | Carrollton | West Georgia Rgnl—O V Gray Fld | 1/6714 | 8/13/21 | RNAV (GPS) RWY 17, Orig-B.
7-Oct-21 | GA | Carrollton | West Georgia Rgnl—O V Gray Fld | 1/6715 | 8/13/21 | ILS OR LOC RWY 35, Orig-A.
7-Oct-21 | CA | Ramona | Ramona | 1/6728 | 8/13/21 | RNAV GPS-B, Orig.
7-Oct-21 | CA | Ramona | Ramona | 1/6729 | 8/13/21 | RNAV (GPS) RWY 9, Amdt 1A.
7-Oct-21 | CA | Ramona | Ramona | 1/6730 | 8/13/21 | VOR/DME-A, Amdt 2.
7-Oct-21 | TN | Jamestown | Jamestown Muni | 1/6891 | 8/13/21 | VOR-A, Amdt 2.
7-Oct-21 | MO | Monroe City | Cpt Ben Smith Airfield—Monroe City | 1/7023 | 7/1/21 | RNAV (GPS) RWY 27, Orig-A.
7-Oct-21 | TX | Fort Worth | Fort Worth Spinks | 1/7187 | 5/24/21 | RNAV (GPS) RWY 35L, Amdt 1A.
7-Oct-21 | TX | Fort Worth | Fort Worth Spinks | 1/7191 | 5/24/21 | RNAV (GPS) RWY 17R, Amdt 1B.
7-Oct-21 | TX | Fort Worth | Fort Worth Spinks | 1/7192 | 5/24/21 | ILS OR LOC RWY 35L, Amdt 2B.
7-Oct-21 | ND | Minot | Minot Intl | 1/7224 | 5/21/21 | ILS OR LOC RWY 31, Amdt 10B.
7-Oct-21 | ND | Minot | Minot Intl | 1/7225 | 5/21/21 | VOR RWY 31, Amdt 11A.
7-Oct-21 | ND | Minot | Minot Intl | 1/7226 | 5/21/21 | LOC BC RWY 13, Amdt 8B.
7-Oct-21 | ND | Minot | Minot Intl | 1/7227 | 5/21/21 | RNAV (GPS) RWY 8, Orig-B.
7-Oct-21 | ND | Minot | Minot Intl | 1/7228 | 5/21/21 | RNAV (GPS) RWY 13, Amdt 1D.
7-Oct-21 | ND | Minot | Minot Intl | 1/7229 | 5/21/21 | RNAV (GPS) RWY 26, Orig-A.
7-Oct-21 | ND | Minot | Minot Intl | 1/7231 | 5/21/21 | RNAV (GPS) RWY 31, Amdt 1C.
7-Oct-21 | ND | Minot | Minot Intl | 1/7232 | 5/21/21 | VOR RWY 8, Amdt 11A.
7-Oct-21 | ND | Minot | Minot Intl | 1/7233 | 5/21/21 | VOR RWY 13, Amdt 11A.
7-Oct-21 | ND | Minot | Minot Intl | 1/7235 | 5/21/21 | VOR RWY 26, Amdt 13A.
7-Oct-21 | NE | Minden | Pioneer Village Fld | 1/7303 | 8/16/21 | RNAV (GPS) RWY 34, Orig-B.
7-Oct-21 | MN | Montevideo | Montevideo-Chippewa County | 1/7696 | 5/24/21 | RNAV (GPS) RWY 32, Orig-A.
7-Oct-21 | MN | Montevideo | Montevideo-Chippewa County | 1/7697 | 5/24/21 | VOR RWY 14, Amdt 5B.
7-Oct-21 | MN | Montevideo | Montevideo-Chippewa County | 1/7698 | 5/24/21 | RNAV (GPS) RWY 14, Orig-A.
7-Oct-21 | MO | Perryville | Perryville Rgnl | 1/7702 | 5/24/21 | RNAV (GPS) RWY 2, Orig-B.
7-Oct-21 | MO | Perryville | Perryville Rgnl | 1/7703 | 5/24/21 | VOR-A, Amdt 5A.
7-Oct-21 | MO | Perryville | Perryville Rgnl | 1/7704 | 5/24/21 | RNAV (GPS) RWY 20, Orig-A.
7-Oct-21 | MN | Mankato | Mankato Rgnl | 1/7789 | 5/21/21 | RNAV (GPS) RWY 15, Orig-A.
7-Oct-21 | MN | Mankato | Mankato Rgnl | 1/7790 | 5/21/21 | RNAV (GPS) RWY 4, Orig-A.
7-Oct-21 | MN | Mankato | Mankato Rgnl | 1/7791 | 5/21/21 | RNAV (GPS) RWY 33 Orig-A.
7-Oct-21 | MN | Mankato | Mankato Rgnl | 1/7792 | 5/21/21 | RNAV (GPS) RWY 22, Orig-A.
7-Oct-21 | MN | Mankato | Mankato Rgnl | 1/7793 | 5/21/21 | ILS OR LOC RWY 33, Amdt 1B.
7-Oct-21 | MO | Mexico | Mexico Meml | 1/8020 | 5/24/21 | VOR/DME RWY 24, Amdt 2B.
7-Oct-21 | MO | Mexico | Mexico Meml | 1/8021 | 5/24/21 | RNAV (GPS) RWY 24, Amdt 1D.
7-Oct-21 | MO | Mexico | Mexico Meml | 1/8022 | 5/24/21 | RNAV (GPS) RWY 6, Amdt 1B.
7-Oct-21 | MO | Mexico | Mexico Meml | 1/8028 | 5/24/21 | LOC/DME RWY 24, Amdt 1C.
7-Oct-21 | TN | Jamestown | Jamestown Muni | 1/8269 | 6/25/21 | RNAV (GPS)-C, Orig.
7-Oct-21 | TN | Jamestown | Jamestown Muni | 1/8270 | 6/25/21 | RNAV (GPS)-B, Orig.
7-Oct-21 | TN | Jamestown | Jamestown Muni | 1/8272 | 6/25/21 | Takeoff Minimums and Obstacle DP, Orig.
7-Oct-21 | GA | Swainsboro | East Georgia Rgnl | 1/8280 | 6/25/21 | RNAV (GPS) RWY 14, Amdt 1B.
7-Oct-21 | GA | Swainsboro | East Georgia Rgnl | 1/8281 | 6/25/21 | ILS OR LOC/DME RWY 14, Amdt 1A.
7-Oct-21 | GA | Swainsboro | East Georgia Rgnl | 1/8282 | 6/25/21 | NDB RWY 14, Amdt 2A.
7-Oct-21 | GA | Swainsboro | East Georgia Rgnl | 1/8283 | 6/25/21 | RNAV (GPS) RWY 32, Amdt 2A.
7-Oct-21 | MO | Kansas City | Kansas City Intl | 1/8770 | 6/9/21 | ILS OR LOC RWY 19R, ILS RWY 19R (SA CAT I), ILS RWY 19R (CAT II AND CAT III), Amdt 12.
7-Oct-21 | IA | Des Moines | Des Moines Intl | 1/8836 | 6/30/21 | VOR RWY 23, Orig-B.
7-Oct-21 | MN | Roseau | Roseau Muni/Rudy Billberg Fld | 1/8860 | 8/16/21 | RNAV (GPS) RWY 34, Orig-A.
7-Oct-21 | AK | Igiugig | Igiugig | 1/9428 | 6/25/21 | RNAV (GPS) RWY 23, Orig-D.
7-Oct-21 | AK | Igiugig | Igiugig | 1/9429 | 6/25/21 | RNAV (GPS) RWY 5, Orig-D.
7-Oct-21 | PA | Lancaster | Lancaster | 1/9441 | 6/22/21 | ILS OR LOC RWY 8, Amdt 2B.
7-Oct-21 | PA | Lancaster | Lancaster | 1/9442 | 6/22/21 | RNAV (GPS) RWY 8, Amdt 3B.
7-Oct-21 | PA | Lancaster | Lancaster | 1/9475 | 6/22/21 | VOR/DME RWY 31, Amdt 4C.
7-Oct-21 | PA | Lancaster | Lancaster | 1/9480 | 6/22/21 | RNAV (GPS) RWY 13, Amdt 1A.
7-Oct-21 | PA | Lancaster | Lancaster | 1/9482 | 6/22/21 | RNAV (GPS) RWY 31, Amdt 1B.
7-Oct-21 | PA | Lancaster | Lancaster | 1/9483 | 6/22/21 | VOR/DME RWY 8, Amdt 6B.
7-Oct-21 | OR | Medford | Rogue Valley Intl—Medford | 1/9534 | 5/26/21 | RNAV (GPS)-D, Amdt 1A.
7-Oct-21 | OR | Medford | Rogue Valley Intl—Medford | 1/9535 | 5/26/21 | LOC/DME BC-B, Amdt 7.
7-Oct-21 | OR | Medford | Rogue Valley Intl—Medford | 1/9536 | 5/26/21 | VOR-A, Amdt 4.
7-Oct-21 | OR | Medford | Rogue Valley Intl—Medford | 1/9537 | 5/26/21 | VOR/DME RWY 14, Amdt 5A.
7-Oct-21 | OR | Medford | Rogue Valley Intl—Medford | 1/9538 | 5/26/21 | VOR/DME-C, Amdt 3A.
7-Oct-21 | KS | Wichita | Cessna Acft Fld | 1/9596 | 6/9/21 | VOR-C, Amdt 1.
7-Oct-21 | KS | Wichita | Cessna Acft Fld | 1/9597 | 6/9/21 | RNAV (GPS)-D, Amdt 1.
7-Oct-21 | AK | Savoonga | Savoonga | 1/9658 | 8/11/21 | RNAV (GPS) RWY 5, Amdt 1C.
7-Oct-21 | AK | Savoonga | Savoonga | 1/9660 | 8/11/21 | RNAV (GPS) RWY 23, Amdt 1D.
7-Oct-21 | AK | Savoonga | Savoonga | 1/9663 | 8/11/21 | VOR RWY 23, Amdt 1B.
7-Oct-21 | AK | Savoonga | Savoonga | 1/9665 | 8/11/21 | VOR/DME RWY 23, Amdt 1B.
7-Oct-21 | MO | Trenton | Trenton Muni | 1/9703 | 8/13/21 | RNAV (GPS) RWY 18, Orig-B.
7-Oct-21 | MO | Trenton | Trenton Muni | 1/9705 | 8/13/21 | RNAV (GPS) RWY 36, Orig-A.
7-Oct-21 | MT | Havre | Havre City-County | 1/9757 | 8/13/21 | RNAV (GPS) RWY 8, Orig-B.
7-Oct-21 | MT | Havre | Havre City-County | 1/9758 | 8/13/21 | RNAV (GPS) RWY 26, Orig-B.
7-Oct-21 | MT | Havre | Havre City-County | 1/9760 | 8/13/21 | VOR RWY 26, Amdt 9B.
7-Oct-21 | MT | Havre | Havre City-County | 1/9762 | 8/13/21 | VOR RWY 8, Amdt 7A.
7-Oct-21 | MA | Hopedale | Hopedale Industrial Park | 1/9888 | 6/28/21 | RNAV (GPS)-A, Orig-B.

[FR Doc. 2021-18715 Filed 8-30-21; 8:45 am]

BILLING CODE 4910-13-P